DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and approval. The nature of the information collection is described as well as its expected burden. The Federal Register Notice (76 FR 67250) with a 60-day comment period soliciting comments on the following collection of information was published on October 31, 2011, and comments were due by December 30, 2011. As such, no comments were received. The total number of response hours reported in the prior 60-day Federal Register Notice was 4,075 hours. As reflected below, this number has decreased to 606 hours due primarily to a change in the number of Listening Sessions from five (5) to one (1) and a change in the number of One-on-One Interviews from 80 to 30.

DATES: Comments must be submitted on or before March 29, 2012.

FOR FURTHER INFORMATION CONTACT: Ms. Yvette M. Fields, Director, Office of Deepwater Ports and Offshore Activities, Maritime Administration, 1200 New Jersey Avenue SE., Washington, DC 20590. Telephone: 202-366-0926; or Email: Yvette.Fields@dot.gov. Copies of this information collection can be obtained from that office.

SUPPLEMENTARY INFORMATION: Maritime Administration.

Title: Maritime Administration's Panama Canal Expansion Study Outreach Program.

OMB Control Number: 2133-NEW.

Type of Request: New Information Collection.

Affected Public: Federal Government; State, Local, or Tribal Governments; Shippers; Maritime Related Organizations and Associations; Local Municipal Planning Organizations; Rail and Land Transportation Companies.

Forms: Shipper Survey.

Abstract: This three-tiered information collection process will directly support the Maritime Administration's efforts to evaluate and assess the impacts of the Panama Canal Expansion on U.S. Ports and infrastructure when the expansion of the Panama Canal is completed in 2014. First, as part of its Panama Canal Outreach Program, the Maritime Administration will conduct one public Listening Session to provide a forum for stakeholders to present their views on the issues that the Maritime Administration should consider in the development of the Panama Canal Expansion Study, and to assess the various infrastructure requirements that will be associated with future trade involving the Panama Canal. Second, the Maritime Administration will conduct one-on-one interviews with key executives from various U.S. ports, port operators, and transportation service providers to identify their specific plans, investment strategies, and perspectives concerning market trends, which are a critical part of the subject Study. Finally, the Maritime Administration will conduct an on-line Panama Canal Shipper Survey in an effort to garner information regarding the current decision processes used by “Beneficial Cargo Owners” (i.e., international shippers) to determine potential changes to their logistics, networks and the contingency plans that have been developed (or will be developed) to address the potential impacts on their costs and routing strategies as a result of the expansion project.

Annual Estimated Burden Hours: 606.

Addresses: Send comments regarding these information collection activities to the Office of Information and Regulatory Affairs, Office of Management and Budget, 725 Seventeenth Street NW., Washington, DC 20503, Attention: MARAD Desk Officer. Alternatively, comments may be sent via email to the Office of Information and Regulatory Affairs (OIRA), Office of Management and Budget, at the following address: oira.submissions@omb.eop.gov.

Comments Are Invited On: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect if OMB receives it within 30 days of publication.

Authority: 49 CFR 1.66.

Issued in Washington, DC, on February 22, 2012.
Julie Agarwal,
Secretary, Maritime Administration.

[FR Doc. 2012-4586 Filed 2-27-12; 8:45 am]

BILLING CODE 4910-81-P